NATIONAL FOUNDATION ON THE ARTS AND THE HUMANITIES

National Endowment for the Arts

Combined Arts Advisory Panel—Notice of Change

Pursuant to section 10(a)(2) of the Federal Advisory Committee Act (Pub. L. 92-463), as amended, notice is hereby given that the open session for the meeting of the Combined Arts Advisory Panel, Multidisciplinary section (Creativity category) to the National Council on the Arts previously announced for August 1, 2003 from 11 a.m.-12 p.m. has been changed. The open session will instead be held from 10:10 a.m.-11:30 a.m.

Further information with reference to this meeting can be obtained from Ms. Kathy Plowitz-Worden, Office of Guidelines & Panel Operations, National Endowment for the Arts, Washington, DC 20506, or call 202/682-5691.

Dated: July 22, 2003.
Kathy Plowitz-Worden,
Panel Coordinator, Panel Operations, National Endowment for the Arts.

[FR Doc. 03-19137 Filed 7-25-03; 8:45 am]

BILLING CODE 7537-01-P